DEPARTMENT OF HEALTH AND HUMAN SERVICES

Administration for Children and Families

Proposed Information Collection Activity; Comment Request

Correction

In notice document 2015-12096 appearing on page 28620 in the issue of Tuesday, May 19, 2015, make the following correction:

On page 28620, in the third column, in the second full paragraph, “https://idaresources.acf.hhs.gov/AFIPPR” should read “http://idaresources.acf.hhs.gov/AFIPPR”.

[FR Doc. C1-2015-12096 Filed 5-26-15; 8:45 am]

BILLING CODE 1505-01-P